GENERAL SERVICES ADMINISTRATION

[Notice-PBS-2023-04; Docket No. 2023-0002; Sequence No. 23]

Notice of Intent To Prepare an Environmental Impact Statement and Notice of Public Scoping Meeting and Comment Period

AGENCY: Office of Public Buildings Service (PBS), General Services Administration (GSA)

ACTION: Notice of intent; notice of public scoping meeting and comment period.

SUMMARY: GSA intends to prepare an Environmental Impact Statement (EIS) which will be prepared in order to analyze potential environmental impacts from the proposed modernization of the Bridge of the Americas Land Port of Entry (LPOE) in El Paso, Texas.

DATES: Public Scoping—The public scoping period will begin November 13, 2023.

Meeting Date—An initial public scoping meeting will be held on Wednesday December 13, 2023, from 6 p.m. to 8 p.m. central standard time (CST), where GSA will meet with governmental and public stakeholders to explain the project and obtain input on the scoping of the project. The meeting will be an informal open house, where visitors may come, receive information, and provide written comments. There will be a brief opening statement and review of the project.

Interested parties are encouraged to provide written comments regarding the scope of the proposed EIS. Written comments pertaining to this initial public scoping meeting must be received by Tuesday, January 16, 2024, in order to be considered during preparation of the Draft EIS.

ADDRESSES: The initial public scoping meeting will be held at the Hilos De Plata Senior Center, 4451 Delta Dr., El Paso, Texas 79905.

Written comments may be sent to GSA BOTA.NEPAcomments@gsa.gov, or the address in the FOR FURTHER INFORMATION CONTACT section.

FOR FURTHER INFORMATION CONTACT: Karla R. Carmichael, NEPA Program Manager, Environmental, Fire and Safety & Health Branch, GSA/PBS, Facilities Management and Services Programs Division, Greater Southwest Region 7, 819 Taylor St., Fort Worth, TX 76102 or via telephone at 817-822-1372.

SUPPLEMENTARY INFORMATION:

Background

On November 6, 2021, Congress passed the Bipartisan Infrastructure Law (BIL), also known as the Infrastructure Investment and Jobs Act (IIJA). On November 15, 2021, the President signed Executive Order (E.O.) 14052 “Implementation of the Infrastructure Investment and Jobs Act.” On December 13, 2021, the President signed E.O. 14508 “Transforming Federal Customer Experience and Service Delivery to Rebuild Trust in Government.” On February 25, 2022, President Biden and the GSA announced the list of major LPOE projects funded by the BIL. This included the Bridge of the Americas (BOTA) LPOE in El Paso, Texas.

The Environmental Impact Statement (EIS) will be prepared in accordance with section 102 of the National Environmental Policy Act (NEPA) of 1969 (42 United States Code [U.S.C.] 4321 to 4370d), as implemented by the regulations promulgated by the Council on Environmental Quality (CEQ) (40 Code of Federal Regulations [CFR] 1500-1508). The principal objectives of NEPA are to ensure the careful consideration of environmental aspects of proposed actions in Federal decision-making processes and to make environmental information available to decision makers and the public before decisions are made and actions are taken.

Additionally, this EIS will be prepared in accordance with GSA NEPA guidelines (GSA Order ADM 1095.1F and the Public Buildings Service [PBS] NEPA Desk Guide, both dated October 1999) and serves as a mechanism for compliance with the National Historic Preservation Act (NHPA) of 1966 (as amended) and other relevant laws and/or regulations.

Scoping Process

The purpose of this initial public scoping meeting is to seek input from stakeholders and the public regarding potential environmental issues that could affect the proposed project. The EIS will include public input on alternatives being developed to implement the proposed improvements and the potential impacts that could result from implementing those improvements.

Purpose and Need for Action

The purpose of the proposed action is for the GSA to support the U.S. Customs and Border Protection (CBP) mission by bringing the BOTA LPOE infrastructure in line with current CBP land port design standards (i.e., CBP Land Port of Entry Design Standard) and operational requirements while addressing existing deficiencies identified with the ongoing port operations. In order to bring the BOTA LPOE in line with CBP's design standards and operational requirements, action is needed to satisfy the following overriding needs:

• Improve the capacity and functionality of the LPOE to meet future public demand, while maintaining the capability to meet border security initiatives.

• Ensure the safety and security for the employees and the travelling public.

Proposed Action and Alternatives Development

As part of initial project planning, the GSA has developed three (3) action alternatives as potential means of implementing the proposed action. The no action alternative will also be considered in the EIS. All three action alternatives include the phased razing of all existing buildings/structures and infrastructure within the existing LPOE boundaries and construction of new buildings/structures and supporting infrastructure. All three also include minimal land acquisition in areas immediately adjacent to the port.

Summary of Potential Impacts

The EIS will identify, describe, and analyze the potential effects of the action alternatives developed to implement the proposed action and the no action alternative. This will include direct, indirect, and cumulative effects. At present, GSA has identified the following resources/issues for analysis of both beneficial and adverse potential impacts:

• Hazardous Materials, Waste, and/or Site Contamination

• Socioeconomics (including Environmental Justice)

• Public Services, Infrastructure, and Utilities

• Surface Waters, Drainage, and Floodplains

• Land Use and Zoning (including Visual and Aesthetics)

• Traffic (Vehicular and Pedestrian), Transportation, and Parking

• Air Quality (including Greenhouse Gas Emissions)

• Noise and Vibration

• Cultural and Historic Resources

The EIS will document measures that could potentially avoid, minimize, or mitigate any identified adverse impacts. GSA welcomes public input on these potential impacts and other resources that could be considered.

Anticipated Schedule for Decision-Making Process

All dates are estimated and may change.

• EIS NOI published in the Federal Register: Friday November 17, 2023.

• Initial NEPA Scoping Meeting: Wednesday December 13, 2023.

• End of Initial NEPA Scoping Period: Tuesday January 16, 2024.

• Publication of the Draft EIS: May-June 2024 TBD.

• Draft EIS Public Comment Period: June-August 2024 TBD.

• Final EIS: September 2024 TBD.

• Record of Decision: October 2024 TBD.

Michael Clardy,
Director, Facilities Management Division.

[FR Doc. 2023-24927 Filed 11-9-23; 8:45 am]

BILLING CODE 6820-AY-P